DEPARTMENT OF LABOR

Occupational Safety and Health Administration

[Docket No. ICR-1218-0218(2002)

Hydrostatic Testing Provision of the Portable Fire Extinguishers Standard; Extension of the Office of Management and Budget's Approval of Information-Collection (Paperwork) Requirements

AGENCY: Occupational Safety and Health Administration (OSHA), Labor.

ACTION: Request for comment.

SUMMARY: OSHA requests comment concerning its proposed extension of the information-collection requirement specified by the hydrostatic testing provision of the Portable Fire Extinguishers Standard (29 CFR 1910.157). The paperwork provision of the hydrostatic testing provision specifies requirements for developing and maintaining certification records to demonstrate that portable fire extinguishers have been tested in accordance with and at intervals specified by the Standard (29 CFR 1910.157(f)(16)). The purpose of the records requirement is to reduce employees' risk of death or serious injury by ensuring that portable fire extinguishers are in operating condition.

DATES: Submit written comments on or before August 26, 2002.

ADDRESSES: Submit written comments to the Docket Office, Docket No. ICR-1218-0218(2002), OSHA, U.S. Department of Labor, Room N-2625, 200 Constitution Avenue, NW., Washington, DC 20210; telephone (202) 693-2350. Commenters may transmit written comments of 10 pages or less by facsimile to (202) 693-1648.

FOR FURTHER INFORMATION CONTACT: Theda Kenney, Directorate of Safety Standards Programs, OSHA, U.S. Department of Labor, Room N-3609, 200 Constitution Avenue, NW., Washington, DC 20210; telephone (202) 693-2222. A copy of the Agency's Information-Collection Request (ICR) supporting the need for the information collection specified by the Portable Fire Extinguishers Standard is available for inspection and copying in the Docket Office, or by requesting a copy from Theda Kenney at (202) 693-2222, or Todd Owen at (202) 693-2444. For electronic copies of the ICR, contact OSHA on the Internet at http://www.osha.gov and select “Information Collection Requests.”

SUPPLEMENTARY INFORMATION:

I. Background

The Department of Labor, as part of its continuing effort to reduce paperwork and respondent (i.e., employer) burden, conducts a preclearance consultation program to provide the public with an opportunity to comment on proposed and continuing information-collection requirements in accordance with the Paperwork Reduction Act of 1995 (PRA-95) (44 U.S.C. 3506(c)(2)(A)). This program ensures that information is in the desired format, reporting burden (time and cost) is minimal, collection instruments are understandable, and OSHA's estimate of the information-collection burden is correct.

The following section describes who uses the information on the hydrostatic testing of portable fire extinguishers that is collected under the records requirement (29 CFR 1910.157(f)(16)), as well as how they use it. The purpose of the requirement is to reduce employees' risk of death or serious injury by ensuring that portable fire extinguishers are in safe operating condition.

Test records (paragraph (f)(16)). Paragraph (f)(16) of the Standard requires employers to develop and maintain a certification record of hydrostatic testing of portable fire extinguishers. The certification record must include the date of inspection, the signature of the person who performed the test, and the serial number (or other identifier) to the fire extinguisher that was tested. The certification record must be made available to the Assistant Secretary or his/her representative upon request. The certification records provide assurance to employers, employees, and OSHA compliance officers that the fire extinguishers have been hydrostatically tested in accordance with and at the intervals specified in the Standard, thereby ensuring that they will operate properly in the event employees need to use them. These records also provide the most efficient means for the compliance officers to determine that an employer is complying with the Standard.

II. Special Issues for Comment

OSHA has a particular interest in comments on the following issues:

• Whether the proposed information-collection requirements are necessary for the proper performance of the Agency's functions, including whether the information is useful;

• The accuracy of OSHA's estimate of the burden (time and costs) of the information-collection requirements, including the validity of the methodology and assumptions used;

• The quality, utility, and clarity of the information collected; and

• Ways to minimize the burden on employers who must comply; for example, by using automated or other technological information-collection and -transmission techniques.

III. Proposed Action

OSHA proposes to extend the Office of Management and Budget's (OMB) approval of the collection-of-information requirements specified by the hydrostatic testing provision of the Portable Fire Extinguishers Standard. The Agency will summarize the comments submitted in response to this notice, and will include this summary in its request to OMB to extend the approval of these information-collection requirements.

Type of Review: Extension of a currently approved information-collection requirement.

Title: Hydrostatic Testing Provision of the Portable Fire Extinguishers (Certification Record) (29 CFR 1910.157).

OMB Number: 1218-0218.

Affected Public: Business or other for-profit; not-for-profit institutions; Federal government; State, local, or tribal governments.

Number of Respondents: 8,780,500.

Frequency of Recordkeeping: Varies from 5 to 12 years.

Average Time per Response: Varies from 2 (.03 hour) to 35 minutes (.58 hour).

Total Annual Hours Requested: 131,708.

Total Annual Costs (O&M): $11,941,480.

IV. Authority and Signature

John L. Henshaw, Assistant Secretary of Labor for Occupational Safety and Health, directed the preparation of this notice. The authority for this notice is the Paperwork Reduction Act of 1995 (44 U.S.C. 3506), and Secretary of Labor's Order No. 3-2000 (65 FR 50017).

Signed at Washington, DC on June 21, 2002.
John L. Henshaw,
Assistant Secretary of Labor.

[FR Doc. 02-16262 Filed 6-26-02; 8:45 am]

BILLING CODE 4510-26-M